COMMITTEE FOR PURCHASE FROM PEOPLE WHO ARE BLIND OR SEVERELY DISABLED

Procurement List; Proposed Additions and Deletions

AGENCY: Committee for Purchase From People Who Are Blind or Severely Disabled.

ACTION: Proposed additions to and deletion from procurement list.

SUMMARY: The Committee has received proposals to add to the Procurement List a commodity and services to be furnished by nonprofit agencies employing persons who are blind or have other severe disabilities, and to delete commodities previously furnished by such agencies.

DATES: Comments must be received on or before August 28, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740

SUPPLEMENTARY INFORMATION: This notice is published pursuant to 41 U.S.C. 47(a)(2) and 41 CFR 51-2.3. Its purpose is to provide interested persons an opportunity to submit comments on the possible impact of the proposed actions.

Additions

If the Committee approves the proposed additions, all entities of the Federal Government (except as otherwise indicated) will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodity and services to the Government.

2. The action will result in authorizing small entities to furnish the commodity and services to the Government.

3. There are no known regulatory alternatives which would accomplish the objectives of the Javits-Wagner-O'Day Act (41 U.S.C. 46-48c) in connection with the commodity and services proposed for addition to the Procurement List. Comments on this certification are invited. Commenters should identify the statement(s) underlying the certification on which they are providing additional information.

The following commodity and services have been proposed for addition to Procurement List for production by the nonprofit agencies listed:

Commodities

Line, Multi-Loop

1670-01-062-6304

NPA: Industrial Opportunities, Inc., Marble, North Carolina.

Services

Grounds Maintenance, Base Housing, Marine Corps Air Station, Cherry Point, North Carolina.

NPA: CETC Employment Opportunities, Inc., New Bern, North Carolina.

Hearing/Grievance Examiner Services, The Corporation for National and Community Service, 1201 New York Avenue, NW, Washington, DC.

NPA: Federal Dispute Resolution Center, Alexandria, Virginia.

Parking Facility Attendant, VA Medical Center, 2215 Fuller Road, Ann Arbor, Michigan.

NPA: Washtenaw County Community Mental Health Board, Ann Arbor, Michigan.

Switchboard Operation, Harry S. Truman Memorial Veterans' Hospital, Columbia, Missouri.

NPA: Alphapointe Association for the Blind, Kansas City, Missouri.

Warehouse Operation, Department of Transportation, Ardmore East Business Center, 3341 Q 75th Avenue, Landover, Maryland.

NPA: Fairfax Opportunities Unlimited, Inc., Alexandria, Virginia.

Deletions

I certify that the following action will not have a significant impact on a substantial number of small entities. The major factors considered for this certification were:

1. The action will not result in any additional reporting, recordkeeping or other compliance requirements for small entities.

2. The action will result in authorizing small entities to furnish the commodities to the Government.

3. There are no known regulatory alternatives which would accomplish the objectives of the Javits-Wagner-O'Day Act (41 U.S.C. 46-48c) in connection with the commodities proposed for deletion from the Procurement List.

The following commodities have been proposed for deletion from the Procurement List:

Stepladder

5440-00-514-4483

5440-00-514-4485

5440-00-514-4487

Louis R. Bartalot,
Deputy Director (Operations).

[FR Doc. 00-19162 Filed 7-27-00; 8:45 am]

BILLING CODE 6353-01-P